DEPARTMENT OF LABOR

Employment and Training Administration

[TA-W-51,170]

Siemens Energy & Automation, Residential Infrastructure Division Including Leased Workers of Randstad North America, CDI Corporation, Peak Technical Services and Randstad Staffing Services, Miami, Florida; Amended Certification Regarding Eligibility To Apply for Worker Adjustment Assistance

In accordance with section 223 of the Trade Act of 1974 (19 U.S.C. 2273) the Department of Labor issued a Certification of Eligibility to Apply for Worker Adjustment Assistance on April 4, 2003, applicable to workers of Siemens Energy & Automation, Residential Infrastructure Division, including leased workers of Randstad North America, CDI Corporation, and Peak Technical Services, Miami, Florida. The notice was published in the Federal Register on April 24, 2003 (68 FR 20178).

At the request of the State agency, the Department reviewed the certification for workers of the subject firm. New information shows that leased workers of Randstad Staffing Services were employed at Siemens Energy & Automation, Residential Infrastructure Division to produce meter sockets and enclosure for the electrical equipment industry at the Miami, Florida location of the subject firm.

Based on these findings, the Department is amending this certification to include leased workers of Randstad Staffing Services working at Siemens Energy & Automation, Residential Infrastructure Division, Miami, Florida.

The intent of the Department's certification is to include all workers of Siemens Energy & Automation, Residential Infrastructure Division who were adversely affected by the shift in production to Mexico.

The amended notice applicable to TA-W-51,170 is hereby issued as follows:

All workers of Siemens Energy & Automation, Inc., Residential Infrastructure Div, Miami, Florida, and leased workers of Randstad North America, CDI Corporation, Peak Technical Services and Randstad Staffing Services producing meter sockets and enclosure at Siemens Energy & Automation, Inc., Residential Infrastructure Division, Miami, Florida, who became totally or partially separated from employment on or after March 14, 2002, through April 4, 2005, are eligible to apply for adjustment assistance under section 223 of the Trade Act of 1974.

Signed in Washington, DC, this 24th day of December, 2003.
Elliott S. Kushner,
Certifying Officer, Division of Trade Adjustment Assistance.

[FR Doc. 04-310 Filed 1-6-04; 8:45 am]

BILLING CODE 4510-30-P